DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a) (3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-025. Applicant: Lawrence Berkeley National Laboratory, One Cyclotron Road, Procurement M/S 937-200, Berkeley, CA 94720. Instrument: Electron Microscope, Model Tecnai G² F20 U-TWIN STEM. Manufacturer: FEI Company, The Netherlands. Intended Use: The instrument is intended to be used to understand chemical composition and electronic bonding at the nanoscale. Materials to be investigated are metals, ceramics, semiconductors and superconductors. Application accepted by Commissioner of Customs: June 13, 2002.

Docket Number: 02-026. Applicant: University of North Carolina at Chapel Hill, Department of Physics & Astronomy, CB# 3255, Chapel Hill, NC 27599-3255. Instrument: Electron Microscope, Model JEM-2010F FasTEM. Manufacturer: JEOL Ltd., Japan. Intended Use: The instrument is intended to be used to study carbon nanotubes and other nanostructured materials such as diamond thin films to (1) reveal the atomics structure and the morphological evolutions of carbon nanotubes produced under various different conditions and (2) manipulate the structures in situ to achieve the desired properties and performance. Application accepted by Commissioner of Customs: June 21, 2002.

Docket Number: 02-27. Applicant: Pennsylvania State University, 195 Materials Research Institute Building, University Park, PA 16802. Instrument: Electron Microscope, Model JEM-2010F FasTEM. Manufacturer: JEOL Ltd., Japan. Intended Use: The instrument is intended to be used to study an array of interfacial dopants by systematically varying dopant effective charge, ionic radius and electronegativity. The structure and chemistry of materials from the atomic to nanometer length scales will be studied, with particular emphasis on the structure of material defects. Experiments to be conducted include: (1) Quantification of interfacial segregation in oxide ceramics and correlation of segregation with interface crystallography, (2) high-resolution imaging of carbon nanotubes and (3) phase identification of catalysts. Application accepted by Commissioner of Customs: June 24, 2002.

Docket Number: 02-28. Applicant: University of Minnesota, Department of Geology & Geophysics, 310 Pillsbury Drive SE, ste 108, Minneapolis, MN 55455. Instrument: High-Pressure/High-Temperature Materials Testing Apparatus with Torsion Module. Manufacturer: Australian Scientific Instruments Pty Ltd, Australia. Intended Use: The instrument is intended to be used to study the mechanical properties of rocks and silicate minerals and to investigate the strength of the minerals olivine, clinopyroxene, plagioclase and enstatite to temperatures of 1650 K, to hyrdrostatic pressure of 700 Mpa, and to uniaxial loads of 100 kN. Both compressive creep and triaxial torsion experiments will be carried out on rocks with very low strengths. Also, experiments will be carried out on rock and mineral samples jacketed in iron tubing, and to study the rate of melt migration through partially molten rocks and the rate of hydrogen diffusion into silicate minerals, particularly olivine. The instrument will also be used for educational purposes in the following courses: (1) Solid-Earth Geophysics III: Rock and Mineral Physics and (2) Geodynamics II: The Fluid Earth. Application accepted by Commissioner of Customs: June 30, 2002.

Docket Number: 02-29. Applicant: University of Delaware, 223 Sharp Lab, Newark, DE 19716. Instrument: Electron Microscope, Model JEM-3010. Manufacturer: JEOL Ltd., Japan. Intended Use: The instrument is intended to be used in microstructural investigations of magnetic materials such as FePt, CoPt, SmCo and NdFeB to develop an understanding of the effect of process parameter on the magnetic materials being developed for permanent magnet and magnetic recording technologies. Application accepted by Commissioner of Customs: July 3, 2002.

Gerald A. Zerdy,
Program Manager, Statutory Import Programs Staff.

[FR Doc. 02-18292 Filed 7-18-02; 8:45 am]

BILLING CODE 3510-DS-P